DEPARTMENT OF TRANSPORTATION

Office of the Secretary

[Docket No. OST-2003-15660]

Notice of Request for Renewal of a Currently Approved Information Collection

AGENCY: Office of the Secretary, DOT.

ACTION: Notice; correction.

SUMMARY: The Office of the Secretary published a document in the Federal Register on February 14, 2007, concerning a request for a renewal of a currently approved information collection. We are correcting the document as set forth below.

FOR FURTHER INFORMATION CONTACT: Ms. Vivian Jones, Office of the Secretary, Department of Transportation, 400 Seventh Street, SW., Washington, DC 20590, (202) 366-0283.

Correction

In the February 14, 2007, Federal Register [72 FR 7110-7111] correct the Estimated total burden on respondents. And add the Average Annual Burden per respondent to read:

Estimated Number of Respondents: 26.

Total Annual Response: 1380.

Estimated Total Burden on Respondents: 4789.

Issued in Washington, DC, on March 5, 2007.
John DiLuccio,
Director, Resource Directorate.

[FR Doc. E7-4409 Filed 3-9-07; 8:45 am]

BILLING CODE 4910-62-P